DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Firearms Convention.

Agency Form Number: BXA-748P.

OMB Approval Number: 0694-0114.

Type of Request: Renewal of an existing collection of information.

Burden: 374.

Average Time Per Response: 40 minutes per response (electronic copy), 45 minutes (hard copy).

Number of Respondents: 1,100 respondents.

Needs and Uses: This collection is required by Section 5(h) of the Export Administration Act of 1979, as amended (EAA), and authorized under Section 15(b) of the EAA. U.S. firms as a matter of practice already obtained the Import Certificate in order to do business in OAS countries. The United States now requires them to obtain it, provide the information to BIS, and retain the certificate in company records. The Import Certificate is essential to the prevention of the spread of illicit firearms. The USG can use it to prosecute illegal transactions, and it is useful in other enforcement activities.

Affected Public: Individuals, businesses or other for-profit institutions.

Respondent's Obligation: Mandatory.

OMB Desk Officer: David Rostker.

Copies of the above information collection proposal can be obtained by calling or writing Diana Hynek, DOC Paperwork Clearance Officer, Office of the Chief Information Officer, (202) 482-0266, Department of Commerce, Room 6625, 14th and Constitution Avenue, NW, Washington, DC 20230.

Written comments and recommendations for the proposed information collection should be sent within 30 days of publication of this notice to David Rostker, OMB Desk Officer, Room 10202, New Executive Office Building, Washington, DC 20230.

Dated: November 22, 2002.
Madeleine Clayton,
Management Analyst, Office of the Chief Information Officer.

[FR Doc. 02-30082 Filed 11-26-02; 8:45 am]

BILLING CODE 3510-33-P